NUCLEAR REGULATORY COMMISSION

[NRC-2009-0360]

Proposed Model Safety Evaluation for Plant-Specific Adoption of Technical Specification Task Force Traveler-501, Revision 1, “Relocate Stored Fuel Oil and Lube Oil Volume Values to Licensee Control”

AGENCY: Nuclear Regulatory Commission (NRC).

ACTION: Notice of opportunity for public comment.

DATES: Comments must be filed no later than 60 days from the date of publication of this notice in the Federal Register. Comments received after this date will be considered, if it is practical to do so, but the Commission is able to ensure consideration only for comments received on or before this date.

ADDRESSES: You may submit comments by any one of the following methods. Please include Docket ID NRC-2009-0360 in the subject line of your comments. Comments submitted in writing or in electronic form will be posted on the NRC Web site and on the Federal rulemaking Web site Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2009-0360. Address questions about NRC dockets to Carol Gallagher 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov. The proposed model safety evaluation, no significant hazards consideration determination, and application for plant-specific adoption of TSTF Traveler-501, Revision 1, “Relocate Stored Fuel Oil and Lube Oil Volume Values To Licensee Control” are available electronically under ADAMS Accession Number ML091730236.

Federal Rulemaking Web site: Public comments and supporting materials related to this notice can be found at http://www.regulations.gov by searching on Docket ID: NRC-2009-0360.

FOR FURTHER INFORMATION CONTACT: Ms. Michelle C. Honcharik, Senior Project Manager, Special Projects Branch, Mail Stop: O-12D1, Division of Policy and Rulemaking, Office of Nuclear Reactor Regulation, U.S. Nuclear Regulatory Commission, Washington, DC 20555-0001; telephone 301-415-1774 or e-mail at michelle.honcharik@nrc.gov.

SUPPLEMENTARY INFORMATION: The NRC is requesting public comment on the enclosed proposed model safety evaluation, no significant hazards consideration determination, and application for plant-specific adoption of Technical Specification Task Force (TSTF) Traveler-501, Revision 1, “Relocate Stored Fuel Oil and Lube Oil Volume Values To Licensee Control.” The proposed changes would revise Technical Specification (TS) 3.8.3, “Diesel Fuel Oil, Lube Oil, and Starting Air,” by relocating the current stored diesel fuel oil and lube oil numerical volume requirements from the TS to the TS Bases so that it may be modified under licensee control. This model safety evaluation will facilitate expedited approval of plant-specific adoption of TSTF Traveler-501, Revision 1. After the NRC staff considers any public comments, it will make a determination regarding the proposed TSTF Traveler-501.

Dated at Rockville, Maryland, this 12th day of August 2009.
For the Nuclear Regulatory Commission.
Stacey L. Rosenberg,
Chief, Special Projects Branch, Division of Policy and Rulemaking, Office of Nuclear Reactor Regulation.

Model Safety Evaluation for Plant-Specific Adoption of Technical Specification Task Force Traveler-501, Revision 1, “Relocate Stored Fuel Oil and Lube Oil Volume Values to Licensee Control”

1.0 Introduction

The licensee's current Technical Specifications (TS) contain numerical volume requirements for both stored diesel fuel oil and lube oil. Any changes to the numerical volume requirements currently require prior approval from the U.S. Nuclear Regulatory Commission (NRC). As an example, diesel fuel oil numerical volume requirements may need to be modified in order to take into account changes to the energy content (BTU/gallon) of available fuels in the market. Fluctuations in energy content could be caused by a variety of factors, including changes to regulatory requirements. By adopting NRC-approved Technical Specification Task Force (TSTF) Improved Standard Technical Specification Change Traveler-501, Revision 1, “Relocate Stored Fuel Oil and Lube Oil Volume Values to Licensee Control,” the numerical volume requirements for both stored diesel fuel oil and lube oil are relocated from the TS to a licensee controlled document. As a result, the numerical volume requirements for both stored diesel fuel oil and lube oil may be modified under licensee control, and therefore, may not require prior NRC approval. By application dated [Date], [Name of Licensee] (the licensee) requested changes to the TS for the [Name of Facility].

The proposed changes revise TS 3.8.3, “Diesel Fuel Oil, Lube Oil, and Starting Air,” by relocating the current stored diesel fuel oil and lube oil numerical volume requirements from the TS to the TS Bases so that it may be modified under licensee control. The TS is modified so that the stored diesel fuel oil and lube oil inventory will require that a [7] day supply be available for each diesel generator. As a result:

• Condition A and Condition B in the Action table are revised. Currently, Condition A and Condition B are entered when the stored diesel fuel oil and lube oil numerical volume requirements are not met. As discussed in the current TS Bases, the numerical volume requirements in Condition A and Condition B are based on volumes less than a [7] day supply, but greater than a [6] day supply. The revision relocates the volumetric requirements from the TS and places it in the TS Bases. The TS is modified so that Condition A and Condition B are entered when the stored diesel fuel oil and lube oil inventory is less than a [7] day supply, but greater than a [6] day supply for one or more diesel generators.

• Surveillance Requirement (SR) 3.8.3.1 and 3.8.3.2 are revised. Currently, SR 3.8.3.1 and SR 3.8.3.2 verify that the stored diesel fuel oil and lube oil numerical volume requirements are met. As discussed in the current TS Bases, the numerical volume requirements in SR 3.8.3.1 and SR 3.8.3.2 are based on maintaining at least a [7] day supply. The revision relocates the volumetric requirements from the TS and places it in the TS Bases. The TS is modified so that SR 3.8.3.1 and SR 3.8.3.2 verify that the stored diesel fuel oil and lube oil inventories are greater than or equal to a [7] day supply for each diesel generator.

• The reference to Appendix B of American National Standards Institute (ANSI) N195 1976 in the TS Bases is deleted. As a result, the only reference will be to ANSI N195-1976. {NRC Reviewer's Note: This modification to the TS may not be needed if it already exists. The BWR Standard TS already contain this change. Although not a change associated with TSTF Traveler-501, Revision 1, verify that Regulatory Guide (RG) 1.137 is referenced in the reference section of the TS Bases. This is needed since RG 1.137, Revision 1, provides supplemental information to ANSI N195-1976. In addition, RG 1.137 will now be referenced in SR 3.8.3.1, if not referenced elsewhere.}

The licensee stated that the application is consistent with NRC-approved TSTF Traveler 501, Revision 1, “Relocate Stored Fuel Oil and Lube Oil Volume Values to Licensee Control.” The availability of this TS modification was announced in the Federal Register on [Date] ([ ] FR [ ]) as part of the consolidated line item improvement process.

{NRC Reviewer's Note: Discuss any differences with TSTF Traveler-501, Revision 1. Consideration should be given to obtaining technical branch concurrences when the differences are more than administrative in nature.}

2.0 Regulatory Evaluation

2.1 Modification to LCO 3.8.3, “Diesel Fuel Oil, Lube Oil, and Starting Air,” Requirements

The regulation at Title 10 of the Code of Federal Regulations (10 CFR) 50.36(c)(2)(i) states TS will include Limiting Conditions for Operation (LCO) which are “the lowest functional capability or performance levels of equipment required for safe operation of the facility.”

The standby alternating current (AC) power sources are a part of the primary success path and function or actuate to mitigate a design basis accident or transient that either assumes the failure of or presents a challenge to the integrity of a fission product barrier. Diesel fuel oil and lube oil are retained in the TS to satisfy 10 CFR 50.36(c)(2)(i) since they support the operation of the standby AC power sources. The proposed changes revise TS 3.8.3, “Diesel Fuel Oil, Lube Oil, and Starting Air,” by relocating the current stored diesel fuel oil and lube oil numerical volume requirements from the TS to the TS Bases so that it may be modified under licensee control. The TS is modified so that the stored diesel fuel oil and lube oil inventory will require that a [7] day supply be available for each diesel generator. As discussed in Section 3.0, Technical Evaluation, this change still provides assurance that the lowest functional capability or performance levels of equipment required for safe operation of the facility will be continued to be met. Since 10 CFR 50.36(c)(2)(i) is continued to be met, this change is acceptable.

2.2 Modification to Action Table for TS 3.8.3, “Diesel Fuel Oil, Lube Oil, and Starting Air”

Paragraph 50.36(c)(2)(i) goes on to state that “when a limiting condition for operation of a nuclear reactor is not met, the licensee shall shut down the reactor or follow any remedial action permitted by the technical specifications until the condition can be met.”

Condition A and Condition B in the Action table for TS 3.8.3, “Diesel Fuel Oil, Lube Oil, and Starting Air,” are revised to reflect the change in LCO requirements as discussed in Section 2.1 above. Currently, Condition A and Condition B are entered when the stored diesel fuel oil and lube oil numerical volume requirements are not met. As discussed in the current TS Bases, the numerical volume requirements in Condition A and Condition B are based on volumes less than a [7] day supply, but greater than a [6] day supply. The proposal relocates the volumetric requirements from the TS and places it in the TS Bases. The TS is modified so that Condition A and Condition B are entered when the stored diesel fuel oil and lube oil inventory is less than a [7] day supply, but greater than a [6] day supply for one or more diesel generators. These remedial actions are permitted by 10 CFR 50.36(c)(2)(i), and the technical justification for allowing these remedial actions is discussed in Section 3.0, Technical Evaluation.

2.3 Modification to SR 3.8.3.1 and 3.8.3.2

Paragraph 50.36(c)(3) states TS will include SRs which are “requirements relating to test, calibration, or inspection to assure that the necessary quality of systems and components is maintained, that facility operation will be within safety limits, and that the limiting conditions for operation will be met.”

Currently, SR 3.8.3.1 and SR 3.8.3.2 verify that the stored diesel fuel oil and lube oil numerical volume requirements are met. SR 3.8.3.1 and SR 3.8.3.2 are revised to reflect the change in LCO requirements as discussed in Section 2.1 above. As a result, the SR are modified so that SR 3.8.3.1 and SR 3.8.3.2 verify that the stored diesel fuel oil and lube oil inventory is greater than or equal to a [7] day supply for each diesel generator. As discussed in Section 3.0, Technical Evaluation, this change still provides assurance that the necessary quality of systems and components is maintained, that facility operation will be within safety limits, and that the limiting conditions for operation will be met. Since 10 CFR 50.36(c)(3) is continued to be met, this change is acceptable.

2.4 Deletion of Reference to Appendix B of ANSI N195-1976

As discussed in Section 2.1 above, LCO 3.8.3, “Diesel Fuel Oil, Lube Oil, and Starting Air,” is retained in the TS in order to satisfy 10 CFR 50.36(c)(2)(i).

The proposed change deletes the reference to Appendix B of ANSI N195-1976 in the TS Bases for TS 3.8.3. As a result, there will only be a reference to ANSI N195-1976, “Fuel Oil Systems for Standby Diesel-Generators.” Although not a part of TS, the TS Bases contain amplifying and clarifying information on TS, and modification of the TS Bases can potentially impact TS requirements. This modification was evaluated in order to consider the potential change to LCO requirements associated with TS 3.8.3. As discussed in Section 3.0, Technical Evaluation, this change still provides assurance that the lowest functional capability or performance levels of equipment required for safe operation of the facility will be continued to be met. Since 10 CFR 50.36(c)(2)(i) is continued to be met, this modification to LCO 3.8.3 is acceptable.

3.0 Technical Evaluation

3.1 Modification to LCO 3.8.3, “Diesel Fuel Oil, Lube Oil, and Starting Air,” Requirements

Each diesel generator is provided with a fuel oil capacity sufficient to operate that diesel for a period of [7] days while the diesel generator is supplying maximum load demand. This onsite fuel oil capacity is sufficient to operate the diesel generators for longer than the time to replenish the onsite supply from outside sources.

The diesel generator lubrication system is designed to provide sufficient lubrication to permit proper operation of its associated diesel generator under all loading conditions. The system is required to circulate the lube oil to the diesel engine working surfaces and to remove excess heat generated by friction during operation. Each diesel generator has a lube oil inventory capable of supporting a minimum of [7] days of operation. This supply is sufficient to allow the operator to replenish lube oil from outside sources.

In order to meet a [7] day supply of stored diesel fuel oil and lube oil for each diesel generator, TS 3.8.3, “Diesel Fuel Oil, Lube Oil, and Starting Air,” currently contains numerical volume requirements associated with a [7] day supply for each diesel generator. The TS Bases currently discuss that the numerical volume requirements are based on meeting a [7] day supply. The proposed change revises TS 3.8.3 by relocating the current stored diesel fuel oil and lube oil numerical volume requirements from the TS to the TS Bases so that it may be modified under licensee control. The TS is modified so that the stored diesel fuel oil and lube oil inventory will require that a [7] day supply be available for each diesel generator. No changes to the current plant configuration, current numerical volume requirements, or current [7] day basis are proposed in the application; the licensee is merely swapping the current numerical volume requirements from the TS to the TS Bases and swapping the associated current [7] day basis from the TS Bases to the TS.

Section 3.3 below discusses the methodology on how the stored diesel fuel oil and lube oil numerical volume basis in the TS Bases may be modified under licensee control. The use of this methodology will ensure that a [7] day supply of stored diesel fuel oil and lube oil for each diesel generator will be met, thereby providing assurance that the lowest functional capability or performance levels of the diesel generator required for safe operation of the facility will be continued to be met. Therefore, this change is acceptable.

3.2 Modification to Action Table for TS 3.8.3, “Diesel Fuel Oil, Lube Oil, and Starting Air”

Currently, Condition A and Condition B are entered when the stored diesel fuel oil and lube oil numerical volume requirements are not met. As discussed in the current TS Bases, the numerical volume requirements in Condition A and Condition B are based on volumes less than a [7] day supply, but greater than a [6] day supply. The proposal relocates the volumetric requirements from the TS and places it in the TS Bases. The TS is modified so that Condition A and Condition B are entered when the stored diesel fuel oil and lube oil inventory is less than a [7] day supply, but greater than a [6] day supply for one or more diesel generators.

No other parts of Condition A and Condition B (i.e., Required Actions or Completion Times) are proposed to be modified in the application; the licensee is merely swapping the current numerical volume requirements that dictate Condition entry from the TS to the TS Bases and swapping the associated current less than [7] day but greater than [6] day basis for Condition entry from the TS Bases to the TS.

Section 3.3 below discusses the methodology on how the stored diesel fuel oil and lube oil numerical volume basis in the TS Bases may be modified under licensee control. The use of this methodology will ensure that the [7] day and [6] day supplies of stored diesel fuel oil and lube oil for each diesel generator that dictate Condition entry will continue to be calculated in accordance with NRC-approved methods. Therefore, this change is acceptable.

3.3 Modification to SRs 3.8.3.1 and 3.8.3.2

Currently, SR 3.8.3.1 and SR 3.8.3.2 verify that the stored diesel fuel oil and lube oil numerical volume requirements are met. SR 3.8.3.1 and SR 3.8.3.2 are revised to reflect the change in LCO requirements, namely that a [7] day supply be available for each diesel generator. As a result, the SRs are modified so that SR 3.8.3.1 and SR 3.8.3.2 verify that the stored diesel fuel oil and lube oil inventory is greater than or equal to a [7] day supply for each diesel generator.

No other parts of the SRs (i.e., Frequencies) are proposed to be modified in the application; the licensee is merely swapping the current numerical volume requirement verification from the TS to the TS Bases and swapping the associated current [7] day basis for verification from the TS Bases to the TS.

The methodology for determining the [7] day stored diesel fuel oil supply for each diesel generator, as well as the [6] day supply associated with Condition A, is calculated in accordance with RG 1.137, Revision 1, “Fuel-Oil Systems for Standby Diesel Generators,” and ANSI N195 1976. ANSI N195-1976 discusses how the stored diesel fuel oil requirement shall be calculated based upon the diesel generators operating at the minimum required capacity for the plant condition which is most limiting for the calculation of such capacity. One method for calculating the stored diesel fuel oil supply takes into account the time dependence of diesel generator loads. That is, if diesel generator loads increase or decrease during the event, the load changes shall be included in the required fuel storage calculation. If the design includes provisions for an operator to supply power to equipment other than the minimum required for the plant condition, such additional loads shall be included in the calculation of required fuel storage capacity. RG 1.137, Revision 1, supplements the above by stating that for the time-dependent load method, the minimum required capacity should include the capacity to power the engineered safety features. A minimum margin of 10% shall be added to the calculated storage requirement if the alternate conservative calculation discussed next is not used. Another method for calculating the stored diesel fuel oil supply, which is more conservative than the time-dependent load method, is to calculate the storage capacity by assuming that the diesel operates continuously for seven days at its rated capacity. Both calculation methods shall include an explicit allowance for fuel consumption required by periodic testing. This includes the fuel required for operation of the engine at the minimum loads specified by the engine manufacturer.

One variable used in both stored diesel fuel oil calculation methods is the fuel consumption rate. The property of diesel fuel oil having the most significant effect on the fuel consumption rate is the energy content (heating value) of the fuel. There are standards which correlate the energy content to the fuel's American Petroleum Institute (API) gravity or absolute specific gravity. At a minimum, plants calculate their required fuel storage values assuming the most limiting API gravity or absolute specific gravity, and therefore, the most limiting fuel energy content. As long as the fuel oil placed in the storage tank is within the assumed API gravity range or absolute specific gravity range, the calculations of fuel consumption and required stored volume remain valid. Current SR 3.8.3.3 requires new fuel to be tested in order to verify that the new fuel API gravity or absolute specific gravity is within the range assumed in the diesel fuel oil consumption calculations.

The lube oil inventory equivalent to a [7] day supply, as well as the [6] day supply associated with Condition B, is based on the diesel generator manufacturer consumption values for the run time of the diesel generator.

The above methods still provide assurance that the necessary quality of systems and components is maintained, that facility operation will be within safety limits, and that the LCOs will be met. Therefore, the change to SR 3.8.3.1 and SR 3.8.3.2 is acceptable.

3.4 Deletion of Reference to Appendix B of ANSI N195-1976

The proposed change deletes the reference to Appendix B of ANSI N195-1976 in the TS Bases for TS 3.8.3. As a result, there will only be a reference to ANSI N195-1976. This modification was evaluated in order to consider the potential change to LCO requirements associated with TS 3.8.3. LCO 3.8.3 requires, in part, that the stored diesel fuel oil and lube oil shall be within limits for each required diesel generator. The basis for these limits is derived from RG 1.137, Revision 1, and Appendix B of ANSI N195-1976.

For proper operation of the standby diesel generators, it is necessary to ensure the proper quality of the fuel oil. RG 1.137, Revision 1, addresses the recommended fuel oil practices as supplemented by ANSI N195-1976, Appendix B. The fuel oil properties that are checked to ensure the proper quality of the fuel oil are sediment content, the kinematic viscosity, specific gravity (or API gravity), and impurity level.

Although the reference to Appendix B of ANSI N195-1976 will be deleted, RG 1.137, Revision 1, which is currently referenced in the TS Bases, states “Appendix B to ANSI N195-1976 addresses the recommended fuel oil practices. Although not a mandatory part of the standard, the staff believes Appendix B can serve as an acceptable basis for a program to maintain the quality of fuel oil, as supplemented by regulatory position 2 of this guide.” Regulatory Position 2 of RG 1.137 states, in part, “Appendix B to ANSI N195-1976 should be used as a basis for a program to ensure the initial and continuing quality of fuel oil.” As a result, the use of Appendix B of ANSI N195-1976 is still referenced, although now indirectly, and therefore still provides a basis for ensuring the proper quality of the fuel oil; namely that water and sediment content, the kinematic viscosity, specific gravity (or API gravity), and impurity level are within the specified limits. Current SR 3.8.3.3 verifies these limits.

The change still provides assurance that the lowest functional capability or performance levels of equipment required for safe operation of the facility will be continued to be met. Therefore, this modification to LCO 3.8.3 is acceptable.

4.0 State Consultation

In accordance with the Commission's regulations, the [Name of State] State official was notified of the proposed issuance of the amendment. The State official had [no] comments.

5.0 Environmental Consideration

The amendment changes a requirement with respect to installation or use of a facility component located within the restricted area as defined in 10 CFR Part 20. The NRC staff has determined that the amendment involves no significant increase in the amounts, and no significant change in the types, of any effluents that may be released offsite, and that there is no significant increase in individual or cumulative occupational radiation exposure. The Commission has previously issued a proposed finding that the amendment involves no significant hazards consideration, and there has been no public comment on such finding issued on [Date] ([ ] FR [ ]). Accordingly, the amendment meets the eligibility criteria for categorical exclusion set forth in 10 CFR 51.22(c)(9). Pursuant to 10 CFR 51.22(b) no environmental impact statement or environmental assessment need be prepared in connection with the issuance of the amendment.

6.0 Conclusion

The Commission has concluded, based on the considerations discussed above that (1) there is reasonable assurance that the health and safety of the public will not be endangered by operation in the proposed manner, (2) such activities will be conducted in compliance with the Commission's regulations, and (3) the issuance of the amendments will not be inimical to the common defense and security or to the health and safety of the public.

Principal Contributor: [NRC Reviewer]

{NRC Reviewer's Note: TSTF Traveler-501, Revision 1, was reviewed by and deemed acceptable for use by licensees for plant-specific adoption by Aron Lewin (ITSB), Gurcharan Matharu (EEEB), Mathew Yoder (CSGB), and Robert Wolfgang (CPTB).}

Model No Significant Hazards Consideration Determination for Plant-Specific Adoption of TSTF Traveler-501, Revision 1, “Relocate Stored Fuel Oil and Lube Oil Volume Values to Licensee Control”

The proposed changes revise Technical Specifications (TS) by relocating the current stored diesel fuel oil and lube oil numerical volume requirements from the TS to the TS Bases so that it may be modified under licensee control. The current numerical volume requirements are based on a [7] day supply. The TS is modified so that the stored diesel fuel oil and lube oil inventory will require that a [7] day supply be available for each diesel generator. As required by Title 10 of the Code of Federal Regulations (10 CFR) 50.92(c), an analysis of the issue of No Significant Hazards Consideration is presented below:

1. Does the proposed change involve a significant increase in the probability or consequences of an accident previously evaluated?

Response: No

The proposed change relocates the volume of diesel fuel oil and lube oil required to support [7] day operation of the onsite diesel generators, and the volume equivalent to a [6] day supply, to licensee control. The specific volume of fuel oil equivalent to a [7] and [6] day supply is calculated using the NRC-approved methodology described in Regulatory Guide 1.137, Revision 1, “Fuel-Oil Systems for Standby Diesel Generators” and ANSI N195 1976, “Fuel Oil Systems for Standby Diesel-Generators.” The specific volume of lube oil equivalent to a [7] and [6] day supply is based on the diesel generator manufacturer's consumption values for the run time of the diesel generator. Because the requirement to maintain a [7] day supply of diesel fuel oil and lube oil is not changed and is consistent with the assumptions in the accident analyses, and the actions taken when the volume of fuel oil and lube oil are less than a [6] day supply have not changed, neither the probability or the consequences of any accident previously evaluated will be affected. Therefore, the proposed change does not involve a significant increase in the probability or consequences of an accident previously evaluated.

2. Does the proposed change create the possibility of a new or different kind of accident from any accident previously evaluated?

Response: No

The change does not involve a physical alteration of the plant (i.e., no new or different type of equipment will be installed) or a change in the methods governing normal plant operation. The change does not alter assumptions made in the safety analysis but ensures that the diesel generator operates as assumed in the accident analysis. The proposed change is consistent with the safety analysis assumptions. Therefore, the proposed change does not create the possibility of a new or different kind of accident from any accident previously evaluated.

3. Does the proposed change involve a significant reduction in a margin of safety?

Response: No

The proposed change relocates the volume of diesel fuel oil and lube oil required to support [7] day operation of the onsite diesel generators, and the volume equivalent to a [6] day supply, to licensee control. As the bases for the existing limits on diesel fuel oil and lube oil are not changed, no change is made to the accident analysis assumptions and no margin of safety is reduced as part of this change. Therefore, the proposed change does not involve a significant reduction in a margin of safety.

Based on the above, the NRC concludes that the proposed change presents No Significant Hazards Consideration under the standards set forth in 10 CFR 50.92(c), and, accordingly, a finding of “No Significant Hazards Consideration” is justified.

Model Application for Plant-Specific Adoption of TSTF Traveler-501, Revision 1, “Relocate Stored Fuel Oil and Lube Oil Volume Values to Licensee Control”

{NRC Reviewer's Note: Applications will need to be processed under normal amendment review controls, including technical branch review, if:

• There are proposed changes to stored diesel fuel oil and lube oil current plant configuration, current numerical volume requirements, or current time period associated basis.

• There are proposed changes to SR Frequency, Required Actions, or Completion Times associated with stored diesel fuel oil and lube oil.

• There are proposed changes to the current ASTM D975 reference.

• The current licensing basis does not require that a [7] day supply of stored diesel fuel oil and lube oil be available for “each” diesel generator.

• The licensee's amendment request proposes changes that are different from the approved CLIIP and are more than administrative in nature.}

U.S. Nuclear Regulatory Commission, Document Control Desk, Washington, DC 20555.

SUBJECT: [Plant Name]

DOCKET NO. 50-____

LICENSE AMENDMENT REQUEST FOR ADOPTION OF TSTF TRAVELER 501, REVISION 1, “RELOCATE STORED FUEL OIL AND LUBE OIL VOLUME VALUES TO LICENSEE CONTROL”

In accordance with the provisions of Title 10 of the Code of Federal Regulations (10 CFR) 50.90, [Licensee] is submitting a request for an amendment to the Technical Specifications (TS) for [Plant Name, Unit No.].

The proposed changes revise TS 3.8.3, “Diesel Fuel Oil, Lube Oil, and Starting Air,” by relocating the current stored diesel fuel oil and lube oil numerical volume requirements from the TS to the TS Bases so that it may be modified under licensee control. The TS is modified so that the stored diesel fuel oil and lube oil inventory will require that a [7] day supply be available for each diesel generator. Condition A and Condition B in the Action table are revised and Surveillance Requirements (SR) 3.8.3.1 and 3.8.3.2 are revised to reflect the above change. [In addition, the reference to Appendix B of ANSI N195-1976, “Fuel Oil Systems for Standby Diesel-Generators,” in the TS Bases is deleted. As a result, the only reference will be to ANSI N195-1976. The deletion of Appendix B of ANSI N195-1976 in the TS Bases is not required. ANSI N195-1976 and Regulatory Guide 1.137, Revision 1, “Fuel-Oil Systems for Standby Diesel Generators,” are the current Bases references.]

Regarding stored diesel fuel oil and lube oil, no changes to the current plant configuration, current numerical volume requirements, or current [7] day basis are proposed in this application; the proposal merely swaps the current numerical volume requirements from the TS to the TS Bases and swaps the associated current [7] day basis from the TS Bases to the TS. In addition, no changes to any SR Frequency, Required Actions, or Completion Times are proposed in this application.

The proposed changes are consistent with NRC-approved Revision 1 to Technical Specification Task Force (TSTF) Improved Standard Technical Specification Change Traveler-501, “Relocate Stored Fuel Oil and Lube Oil Volume Values to Licensee Control.” The availability of this TS improvement was announced in the Federal Register on [Date] ([ ] FR [ ]) as part of the consolidated line item improvement process (CLIIP). The approval of TSTF Traveler-501, Revision 1, was based on, in part, TSTF responses to NRC requests for additional information (RAI). The TSTF responses to NRC RAIs dated December 13, 2007, and May 5, 2008, are applicable to [Plant Name, Unit No.].

The SR 3.8.3.1 Bases in TSTF Traveler-501, Revision 1, reference “ASTM D975-[ ].” At [Plant Name, Unit No.], the current reference is ATSM D975-[ ]. This application does not propose to modify the current ATSM D975 reference.

TSTF Traveler-501, Revision 1, and the NRC staff's associated model safety evaluation published in the Federal Register, assume that the current licensing basis requires that a [7] day supply of stored diesel fuel oil and lube oil be available for “each” diesel generator. This is the current licensing basis for [Plant Name, Unit No.].

[Discuss any other differences not already considered with TSTF Traveler-501, Revision 1.]

Attachment 1 provides an evaluation of the proposed change. Attachment 2 provides the existing TS pages marked up to show the proposed change. Attachment 3 provides the proposed TS changes in final typed format. Attachment 4 provides the existing Bases pages marked up to show the proposed change.

[Licensee] requests approval of the proposed license amendment by [Date], with the amendment being implemented [by date or within X days].

In accordance with 10 CFR 50.91, a copy of this application, with attachments, is being provided to the designated [State] Official.

If you should have any questions regarding this submittal, please contact [ ].

I declare [or certify, verify, state] under penalty of perjury that the foregoing is true and correct.

[Name, Title] ____.

Attachments: 1. Evaluation of Proposed Change.

2. Proposed Technical Specification Change (Mark-Up). [No model of Attachment 2 is provided; content is plant-specific.]

3. Proposed Technical Specification Change (Re-Typed). [No model of Attachment 3 is provided; content is plant-specific.]

4. Proposed Technical Specification Bases Change (Mark-Up). [No model of Attachment 4 is provided; content is plant-specific.]

cc: [NRR Project Manager]

[Regional Office]

[Resident Inspector]

[State Contact]

Attachment 1—Evaluation of Proposed Change

License Amendment Request for Adoption of TSTF Traveler-501, “Relocate Stored Fuel Oil and Lube Oil Volume Values to Licensee Control”

1.0 Description

2.0 Proposed Change

3.0 Background

4.0 Technical Analysis

5.0 Regulatory Safety Analysis

5.1 No Significant Hazards Determination

5.2 Applicable Regulatory Requirements/Criteria

6.0 Environmental Consideration

7.0 References

1.0 Description

The proposed changes revise Technical Specification (TS) 3.8.3, “Diesel Fuel Oil, Lube Oil, and Starting Air,” by relocating the current stored diesel fuel oil and lube oil numerical volume requirements from the TS to the TS Bases so that it may be modified under licensee control. The TS is modified so that the stored diesel fuel oil and lube oil inventory will require that a [7] day supply be available for each diesel generator. This change is consistent with NRC approved Revision 1 to Technical Specification Task Force (TSTF) Improved Standard Technical Specification Change Traveler-501, “Relocate Stored Fuel Oil and Lube Oil Volume Values to Licensee Control,” The availability of this TS improvement was announced in the Federal Register on [Date] ([ ] FR [ ]) as part of the consolidated line item improvement process (CLIIP).

2.0 Proposed Change

Consistent with the NRC-approved Revision 1 of TSTF Traveler-501, the proposed changes revise TS 3.8.3, “Diesel Fuel Oil, Lube Oil, and Starting Air,” by relocating the current stored diesel fuel oil and lube oil numerical volume requirements from the TS to the TS Bases so that it may be modified under licensee control. The TS is modified so that the stored diesel fuel oil and lube oil inventory will require that a [7] day supply be available for each diesel generator. As a result:

• Condition A and Condition B in the Action table are revised. Currently, Condition A and Condition B are entered when the stored diesel fuel oil and lube oil numerical volume requirements are not met. As discussed in the current TS Bases, the numerical volume requirements in Condition A and Condition B are based on volumes less than a [7] day supply, but greater than an a [6] day supply. The revision relocates the volumetric requirements from the TS and places it in the TS Bases. The TS is modified so that Condition A and Condition B are entered when the stored diesel fuel oil and lube oil inventory is less than a [7] day supply, but greater than a [6] day supply for one or more diesel generators.

• Surveillance Requirements (SR) 3.8.3.1 and 3.8.3.2 are revised. Currently, SR 3.8.3.1 and SR 3.8.3.2 verify that the stored diesel fuel oil and lube oil numerical volume requirements are met. As discussed in the current TS Bases, the numerical volume requirements in SR 3.8.3.1 and SR 3.8.3.2 are based on maintaining at least a [7] day supply. The revision relocates the volumetric requirements from the TS and places it in the TS Bases. The TS is modified so that SR 3.8.3.1 and SR 3.8.3.2 verify that the stored diesel fuel oil and lube oil inventory is greater than or equal to a [7] day supply for each diesel generator.

• [The reference to Appendix B of ANSI N195-1976 in the TS Bases is deleted. As a result, the only reference will be to ANSI N195-1976.]

Proposed revisions to the TS Bases are also included in this application. Adoption of the TS Bases associated with TSTF Traveler-501, Revision 1, is an integral part of implementing this TS amendment. The changes to the affected TS Bases pages will be incorporated in accordance with the TS Bases Control Program.

This application is being made in accordance with the CLIIP. [Licensee] is [not] proposing variations or deviations from the TS changes described in TSTF Traveler-501, Revision 1, or the NRC staff's model safety evaluation published on [Date] ([ ] FR [ ]) as part of the CLIIP Notice of Availability. [Discuss any differences with TSTF Traveler-501, Revision 1.]

3.0 Background

The background for this application is adequately addressed by the NRC Notice of Availability published on [Date] ([ ] FR [ ]).

4.0 Technical Analysis

[Licensee] has reviewed the model safety evaluation published on [Date] ([ ] FR [ ]) as part of the CLIIP Notice of Availability. [Licensee] has concluded that the technical justifications presented in the model safety evaluation prepared by the NRC staff are applicable to [Plant, Unit No.] and therefore justify this amendment for the incorporation of the proposed changes to the [Plant] TS.

5.0 Regulatory Safety Analysis

5.1 No Significant Hazards Consideration

The proposed changes revise TS by relocating the current stored diesel fuel oil and lube oil numerical volume requirements from the TS to the TS Bases so that it may be modified under licensee control. The current numerical volume requirements are based on a [7] day supply. The TS is modified so that the stored diesel fuel oil and lube oil inventory will require that a [7] day supply be available for each diesel generator. As required by 10 CFR 50.92(c), an analysis of the issue of No Significant Hazards Consideration is presented below:

1. Does the proposed change involve a significant increase in the probability or consequences of an accident previously evaluated?

Response: No

The proposed change relocates the volume of diesel fuel oil and lube oil required to support [7] day operation of the onsite diesel generators, and the volume equivalent to a [6] day supply, to licensee control. The specific volume of fuel oil equivalent to a [7] and [6] day supply is calculated using the NRC-approved methodology described in Regulatory Guide 1.137, Revision 1, “Fuel-Oil Systems for Standby Diesel Generators” and ANSI N195 1976, “Fuel Oil Systems for Standby Diesel-Generators.” The specific volume of lube oil equivalent to a [7] and [6] day supply is based on the diesel generator manufacturer's consumption values for the run time of the diesel generator. Because the requirement to maintain a [7] day supply of diesel fuel oil and lube oil is not changed and is consistent with the assumptions in the accident analyses, and the actions taken when the volume of fuel oil and lube oil are less than a [6] day supply have not changed, neither the probability or the consequences of any accident previously evaluated will be affected. Therefore, the proposed change does not involve a significant increase in the probability or consequences of an accident previously evaluated.

2. Does the proposed change create the possibility of a new or different kind of accident from any accident previously evaluated?

Response: No

The change does not involve a physical alteration of the plant (i.e., no new or different type of equipment will be installed) or a change in the methods governing normal plant operation. The change does not alter assumptions made in the safety analysis but ensures that the diesel generator operates as assumed in the accident analysis. The proposed change is consistent with the safety analysis assumptions. Therefore, the proposed change does not create the possibility of a new or different kind of accident from any accident previously evaluated.

3. Does the proposed change involve a significant reduction in a margin of safety?

Response: No

The proposed change relocates the volume of diesel fuel oil and lube oil required to support [7] day operation of the onsite diesel generators, and the volume equivalent to a [6] day supply, to licensee control. As the bases for the existing limits on diesel fuel oil and lube oil are not changed, no change is made to the accident analysis assumptions and no margin of safety is reduced as part of this change. Therefore, the proposed change does not involve a significant reduction in a margin of safety.

Based on the above, [Licensee] concludes that the proposed change presents No Significant Hazards Consideration under the standards set forth in 10 CFR 50.92(c), and, accordingly, a finding of “No Significant Hazards Consideration” is justified.

5.2 Applicable Regulatory Requirements/Criteria

A description of the proposed TS change and its relationship to applicable regulatory requirements was provided in the NRC Notice of Availability published on [Date] ([ ] FR [ ]).

6.0 Environmental Consideration

[Licensee] has reviewed the environmental evaluation included in the model safety evaluation published on [Date] ([ ] FR [ ]) as part of the CLIIP Notice of Availability. [Licensee] has concluded that the NRC staff's findings presented in that evaluation are applicable to [Plant, No.] and the evaluation is hereby incorporated by reference for this application.

7.0 References

1. Federal Register Notice, Notice of Availability published on [DATE] ([ ] FR [ ]).

2. TSTF Traveler-501, Revision 1, “Relocate Stored Fuel Oil and Lube Oil Volume Values to Licensee Control.” (ADAMS Accession No. ML090510686)

3. Response to NRC RAI dated May 5, 2008. (ADAMS Accession No. ML082620238)

4. Response to NRC RAI dated December 13, 2007. (ADAMS Accession No. ML080670151)

5. TSTF Traveler-501, Revision 0, “Relocate Stored Fuel Oil and Lube Oil Volume Values to Licensee Control.” (ADAMS Accession No. ML072040102)

[FR Doc. E9-19998 Filed 8-19-09; 8:45 am]

BILLING CODE 7590-01-P